DEPARTMENT OF JUSTICE

Request for Resubmission of Comments on Proposed Consent Decree

In accordance with Departmental Policy, 28 CFR 50.7, the Department of Justice published a notice on October 4, 2001 that a proposed consent decree in United States v. Caribbean Airport Facilities, Inc, and Anthony Tirri, Civil Action No. 01-2178 (JAG) (D.P.R.), had been lodged with the United States District Court for the District of Puerto Rico, and provided a public comment period that ended on November 6, 2001. The notice provided an address to which comments should be mailed.

The Department of Justice has experienced disruptions in mail delivery in October and November. To date, the Department has received no comments on the proposed consent decree in this case.

In recognition of the possibility that comments were mailed but did not reach the Department due to the mail disruptions, the Department is requesting that any persons who sent comments on the proposed consent decree during the period resubmit a copy of those comments to the Department. To be clear, the Department is not reopening the comment period or accepting new comments. The Department will only consider comments that were previously mailed during the comment period that ended on November 6, 2001.

Any person who submitted comments to the Department during the comment period and wishes to have those comments considered must resubmit their comments within 10 days of the date of publication of this notice. Resubmitted comments should be sent either (1) by telecopy to Scott J. Jordan at 202-514-8865 or (2) by mail to Camille Vélez-Rivé, Assistant United States Attorney, US Attorney's Office, Room 452, Federal Office Building, Carlos Chardon Street, Hato Rey, Puerto Rico 00918.

Mary F. Edgar,
Assistant Chief, Environmental Defense Section, Environment & Natural Resources Division.

[FR Doc. 02-39 Filed 1-2-02; 8:45 am]

BILLING CODE 4410-15-M